INTERNATIONAL TRADE COMMISSION

[Investigation No. 332-588]

Foreign Trade Zones (FTZs): Effects of FTZ Policies and Practices on U.S. Firms Operating in U.S. FTZs and Under Similar Programs in Canada and Mexico; Submission of Questionnaire and Information Collection Plan for Office of Management and Budget Review

AGENCY: United States International Trade Commission.

ACTION: Notice of submission of request for approval of a questionnaire and information collection to the Office of Management and Budget.

SUMMARY: The information requested by the questionnaire is for use by the Commission in connection with Investigation No. 332-588, Foreign Trade Zones (FTZs): Effects of FTZ Policies and Practices on U.S. Firms Operating in U.S. FTZs and Under Similar Programs in Canada and Mexico.

ADDRESSES: All Commission offices are located in the U.S. International Trade Commission Building, 500 E Street SW, Washington, DC. Due to the COVID-19 pandemic, the Commission's building is currently closed to the public. Once the building reopens, persons with mobility impairments who will need special assistance in gaining access to the Commission should contact the Office of the Secretary at 202-205-2000.

FOR FURTHER INFORMATION CONTACT: The project leaders for this investigation are Ann Marie Carton, Fernando Gracia, and Lin Jones. The Commission is currently unable to accept paper correspondence for this investigation. Please direct all questions and comments about this investigation to Ann Marie Carton at 202-205-2781 or via email at ftz.investigation@usitc.gov.

Comments about the proposal should be provided to the Office of Management and Budget, Office of Information and Regulatory Affairs through the Information Collection Review Dashboard at https://www.reginfo.gov. All comments should be specific, indicating which part of the questionnaire is objectionable, describing the concern in detail, and including specific suggested revisions or language changes. Copies of any comments should be provided electronically to the Commission's survey team via an email to ftz.investigation@usitc.gov.

The public record for this investigation may be viewed on the Commission's electronic docket (EDIS) at https://edis.usitc.gov. General information concerning the Commission may be obtained by accessing its internet address (https://www.usitc.gov). Hearing-impaired individuals are advised that information on this matter can be obtained by contacting the TDD terminal on 202-205-1810.

SUPPLEMENTARY INFORMATION: The information requested by the questionnaire is for use by the Commission in connection with Investigation No. 332-588, Foreign Trade Zones (FTZs): Effects of FTZ Policies and Practices on U.S. Firms Operating in U.S. FTZs and Under Similar Programs in Canada and Mexico, instituted under the authority of section 332(g) of the Tariff Act of 1930 (19 U.S.C. 1332(g)). This investigation and report were requested by the United States Trade Representative (USTR) on December 14, 2021. This investigation was initiated on January 26, 2022, and the notice of investigation was published in the Federal Register on January 31, 2022 (87 FR 4914). The Commission will deliver its report to USTR by April 14, 2023.

As stated in the notice of investigation, USTR requested that the Commission's report include detailed data and other information on firms operating in FTZs in the United States, and under similar programs in Canada, and Mexico. Such information is not available in the requested specificity from governmental and other public sources. The Commission indicated in its notice of investigation that it will need to obtain much of such data and information through a survey. The survey will assist the Commission in developing, as requested, an overview of economic activity and policies and practices in U.S. FTZs and under similar programs in Canada and Mexico, and the effects of those policies and practices on the cost competitiveness of products of firms operating in these programs. Similar programs in Canada include the Duties Relief Program, Drawback Program, Export Distribution Center Program, and Exporters of Processing Services Program. Similar programs in Mexico include Industria Manufacturera, Maquiladora y de Servicios de Exportación (IMMEX), Value Added Tax (VAT)/Special Tax on Production and Services (IEPS) Certification, Programa de Promoción Sectorial (PROSEC), Rule 8 (Regla 8), and Operadores Económicos Autorizados (OEA) (previously Nuevo Esquema de Empresas Certificadas (NEEC)).

The Commission intends to submit the following draft information collection plan to OMB:

(1) Number of forms submitted: 1.

(2) Title of form: Foreign Trade Zones Questionnaire.

(3) Type of request: New.

(4) Frequency of use: Industry questionnaire, single data gathering, scheduled for 2022.

(5) Description of respondents: U.S. firms that have been granted production authority in a U.S. FTZ and have exercised that authority since January 1, 2016.

(6) Estimated number of questionnaire requests to be emailed: 400.

(7) Estimated total number of hours to complete the questionnaire per respondent: 25 hours.

(8) Information obtained from the questionnaire that qualifies as confidential business information will be so treated by the Commission and not disclosed in a manner that would reveal the individual operations of a business.

Copies of the draft questionnaire and other supplementary documents may be downloaded from the USITC website at https://www.usitc.gov/ftzinvestigation.

By order of the Commission.
Issued: June 28, 2022.
Katherine Hiner,
Acting Secretary to the Commission.

[FR Doc. 2022-14272 Filed 7-1-22; 8:45 am]

BILLING CODE 7020-02-P